DEPARTMENT OF ENERGY

Federal Energy Regulatory Commission

Combined Notice of Filings

Take notice that the Commission has received the following Natural Gas Pipeline Rate and Refund Report filings:

Filings Instituting Proceedings

Docket Numbers: RP21-1124-000.

Applicants: Texas Gas Transmission, LLC.

Description: § 4(d) Rate Filing: Enhanced Parking Service Clarification to be effective 10/18/2021.

Filed Date: 9/17/21.

Accession Number: 20210917-5019.

Comment Date: 5 pm ET 9/29/21.

Docket Numbers: RP21-1125-000.

Applicants: Gulf South Pipeline Company, LLC.

Description: § 4(d) Rate Filing: Amendment to Neg Rate Agmt (Colorado Bend 46260 eff 9-17-21) to be effective 9/17/2021.

Filed Date: 9/17/21.

Accession Number: 20210917-5020.

Comment Date: 5 pm ET 9/29/21.

Docket Numbers: RP21-1126-000.

Applicants: Portland Natural Gas Transmission System.

Description: Compliance filing: WXP Phases II & III Compliance Filing to be effective 11/1/2021.

Filed Date: 9/17/21.

Accession Number: 20210917-5073.

Comment Date: 5 pm ET 9/29/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2021.
Debbie-Anne A. Reese,
Deputy Secretary.

[FR Doc. 2021-20770 Filed 9-23-21; 8:45 am]

BILLING CODE 6717-01-P